DEPARTMENT OF DEFENSE

GENERAL SERVICES ADMINISTRATION

NATIONAL AERONAUTICS AND SPACE ADMINISTRATION

48 CFR Part 52

[FAC 2001-14; Item VIII]

Federal Acquisition Regulation; Technical Amendments

Correction

In rule document 03-12308 appearing on page 28098 in the issue of Thursday, May 22, 2003, make the following correction:

On page 28098, in the second column, under the heading dates, “June 23, 2003” should read, “May 22, 2003”.

[FR Doc. C3-12308 Filed 5-28-03; 8:45 am]

BILLING CODE 1505-01-D